NATIONAL SCIENCE FOUNDATION

Agency Information Collection Activities: Comment Request; National Survey of College Graduates

AGENCY: National Center for Science and Engineering Statistics; National Science Foundation.

ACTION: Notice.

SUMMARY: The National Center for Science and Engineering Statistics (NCSES), within the National Science Foundation (NSF) is announcing plans to request renewal of the National Survey of College Graduates (OMB Control Number 3145-0141). In accordance with the requirements of the Paperwork Reduction Act of 1995, we are providing opportunity for public comment on this action. After obtaining and considering public comment, NCSES will prepare the submission requesting that OMB approve clearance of this collection for three years.

DATES: Written comments on this notice must be received by June 29, 2020 to be assured of consideration. Comments received after that date will be considered to the extent practicable. Send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: 2021 National Survey of College Graduates.

OMB Control Number: 3145-0141.

Expiration Date of Current Approval: February 28, 2022.

Type of Request: Intent to seek approval to extend an information collection for three years.

Abstract

Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

The National Survey of College Graduates (NSCG) is designed to comply with these mandates by providing information on the supply and utilization of the nation's scientists and engineers. The purpose of the NSCG is to collect data that will be used to provide national estimates on the size, composition, and activities of the science and engineering workforce and changes in their employment, education, and demographic characteristics. The NSCG has been conducted biennially since the 1970s. The 2021 NSCG sample will be selected from the 2019 American Community Survey (ACS) and the 2019 NSCG. By selecting the sample from these two sources, the 2021 NSCG will provide coverage of the college graduate population residing in the United States.

The U.S. Census Bureau, as the agency responsible for the ACS, will serve as the NSCG data collection contractor for NCSES. The survey data collection is expected to begin in February 2021 and continue for approximately seven months. Data will be collected using web and mail questionnaires, and follow-up will be conducted with nonrespondents by computer-assisted telephone interviewing (CATI). The individual's response to the survey is voluntary. The survey will be conducted in conformance with Census Bureau statistical quality standards and, as such, the NSCG data will be afforded confidentiality protection under the applicable Census Bureau confidentiality statutes.

Use of the Information: The NSF uses the information from the NSCG to prepare congressionally mandated reports such as Women, Minorities and Persons with Disabilities in Science and Engineering (https://www.nsf.gov/statistics/women/) and Science and Engineering Indicators (https://ncses.nsf.gov/indicators), both of which are available online. A public release file of collected data, designed to protect respondent confidentiality, will be made available on the internet and will be accessible through an online data tool (https://ncsesdata.nsf.gov/ids/).

Expected Respondents: A statistical sample of approximately 164,000 individuals (90,000 returning sample members and 74,000 new sample members) will be contacted in 2021. Based on recent survey cycles, NCSES expects the response rate to be 65 to 75 percent.

Estimate of Burden: The amount of time to complete the questionnaire may vary depending on an individual's educational history, employment status, and past response to the NSCG. The time to complete the 2019 NSCG web survey ranged from 15.4 minutes for some returning sample members to 23.6 minutes for new sample members, and approximately 85% of respondents completed the web mode. Likewise, CATI interview times during the 2019 NSCG ranged from 29.6 minutes for some returning sample members to 34.3 minutes for new sample members, and about 5% of respondents completed via CATI. It was estimated that all forms of the 2019 NSCG paper questionnaire took 30 minutes to complete, and about 10% of respondents completed the paper form. Based on the 2019 cycle's survey completion times, it is estimated that it will take approximately 25 minutes, on average, to complete the 2021 NSCG questionnaire. NSF estimates that the average annual burden for the 2021 survey cycle over the course of the three-year OMB clearance period will be no more than 17,083 hours [(164,000 individuals × 75% response × 25 minutes)/3 years].

Comments: Comments are invited on (a) whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: April 22, 2020.
Suzanne H. Plimpton,
Reports Clearance Officer, National Science Foundation.

[FR Doc. 2020-09000 Filed 4-27-20; 8:45 am]

BILLING CODE 7555-01-P